DEPARTMENT OF JUSTICE

Office of Justice Program

Bureau of Justice Statistics; Agency Information Collection Activities; Proposed Collection; Comment Request

ACTION: Notice of Information Collection Under Review: Deaths In Custody, 2000—Report on Inmates Under Jail Jurisdiction/Inmates in Private and Multi-Jurisdiction Jails.

Office of Management and Budget (OMB) approval is being sought for the information collection listed below. This proposed information collection was previously published in the Federal Register on October 19, 2000, at Vol 65 FR 62752, allowing for a 60-day public comment period on this information collection. No comments were received by the Bureau of Justice Statistics. The purpose of this notice is to allow an additional 30 days for public comments. Comments are encouraged and will be accepted for “thirty days” until March 1, 2001. This process is conducted in accordance with 5 CFR 1320.10.

Written comments and/or suggestions regarding the item(s) contained in this notice, especially regarding the estimated public burden and associated response time, should be directed to the Office of Management and Budget, Office of Information and Regulatory Affairs, Attn.: Mr. Nathan Knuffman, 202-395-6466, Department of Justice Desk Officer, Room 10235, Office of Management and Budget, Washington, DC 20503. Additionally, comments may be submitted to OMB via facsimile to 202-395-7285.

If you have additional comments, suggestions, or additional information, please write Jan M. Chaiken, Director, Bureau of Justice Statistics, 810 Seventh St. NW, Washington, DC 20531. If you need a copy of the collection instrument with instructions, or have additional information, please contact Christopher J. Mumola at 202-307-5995, or via facsimile at 202-514-1757.

Written comments and suggestions from the public and affected agencies concerning the proposed collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection

(1) Type of information collection. New data collection.

(2) The title of the Form/Collection: Deaths in Custody, 2000—Report on Inmates Under Jail Jurisdiction/Inmates in Private and Multi-jurisdiction Jails.

(3) The agency form number and the applicable component of the Department sponsoring the collection. Forms: CJ-9 and CJ-9A. Corrections Unit, Bureau of Justice Statistics, Office of Justice Programs, United States Department of Justice.

(4) Affected public who will asked to respond, as well as a brief abstract: Primary: Local jail administrators. The Deaths in Custody, 2000 collections will assess the number of inmate deaths that occur while in law enforcement custody. This collection will provide the only source of this essential information at the national level. The data providers for this collection are confinement facilities usually administered by local law enforcement agencies.

(5) An estimate of the total number of responses and the amount of the time estimated for an average response: 3,083 respondents each taking an average 30 minutes to respond.

(6) An estimate of the total public burden (in hours) associated with the collection: 1,541 annual burden hours.

If additional information is required contact: Mrs. Brenda E. Dyer, Deputy Clearance Officer, United States Department of Justice, Information Management and Security Staff, Justice Management Division, Suite 1220, 1331 Pennsylvania Ave. NW, National Place Building, Washington, DC 20530.

Dated: January 23, 2001.
Brenda E. Dyer,
Department Deputy Clearance Officer, United States Department of Justice.

[FR Doc. 01-2508 Filed 1-29-01; 8:45 am]

BILLING CODE 4410-18-M